INTERNATIONAL TRADE COMMISSION

[USITC SE-14-044]

Government in the Sunshine Act Meeting Notice

Agency Holding the Meeting: United States International Trade Commission

Time and Date: December 29, 2014, at 11 a.m.

Place: Room 101, 500 E Street SW., Washington, DC 20436, Telephone: (202) 205-2000.

Status: Open to the public.

Matters to be Considered

1. Agendas for future meetings: none

2. Minutes

3. Ratification List

4. Vote in Inv. Nos. 701-TA-526-527 and 731-TA-1262-1263 (Preliminary)(Melamine from China and Trinidad and Tobago). The Commission is currently scheduled to complete and file its determinations on December 29, 2014; views of the Commission are currently scheduled to be completed and filed on January 6, 2015.

5. Outstanding action jackets: none

In accordance with Commission policy, subject matter listed above, not disposed of at the scheduled meeting, may be carried over to the agenda of the following meeting.

By order of the Commission:
Issued: December 17, 2014.
William R. Bishop,
Supervisory Hearings and Information Officer.

[FR Doc. 2014-29990 Filed 12-18-14; 11:15 am]

BILLING CODE 7020-02-P